DEPARTMENT OF ENERGY

Federal Energy Regulatory Commission

Combined Notice of Filings #1

Take notice that the Commission received the following electric rate filings:

Docket Numbers: ER11-4320-002.

Applicants: Arizona Public Service Company.

Description: Amendment to Service Agreement 174; Gila River and Sundevil IOA to be effective 2/6/2012.

Filed Date: 3/1/12.

Accession Number: 20120301-5221.

Comments Due: 5 p.m. ET 3/22/12.

Docket Numbers: ER12-1193-000.

Applicants: PacifiCorp.

Description: Wolverine Creek Goshen Phase 2 Amended and Restated LGIA to be effective 9/22/2010.

Filed Date: 3/1/12.

Accession Number: 20120301-5240.

Comments Due: 5 p.m. ET 3/22/12.

Docket Numbers: ER12-1194-000.

Applicants: Midwest Independent Transmission System Operator, Inc.

Description: 03-01-2012 MVP ARR Compliance to be effective 9/1/2012.

Filed Date: 3/1/12.

Accession Number: 20120301-5242.

Comments Due: 5 p.m. ET 3/22/12.

Docket Numbers: ER97-4143-026; ER11-46-003; ER10-2975-003; ER98-542-028; ER10-727-003.

Applicants: American Electric Power Service Corporation, AEP Energy Partners, Inc., CSW Energy Services, Inc., Central and South West Services, Inc., AEP Retail Energy Partners LLC.

Description: Notice of change in status of American Electric Power Service Corporation.

Filed Date: 3/1/12.

Accession Number: 20120301-5268.

Comments Due: 5 p.m. ET 3/22/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2012.
Nathaniel J. Davis, Sr.,
Deputy Secretary.

[FR Doc. 2012-5901 Filed 3-9-12; 8:45 am]

BILLING CODE 6717-01-P